DEPARTMENT OF TRANSPORTATION

[DOT-OST-2018-0070]

Notice of Solicitation of Nominations for Membership for the DOT Advisory Committee on Human Trafficking

AGENCY: Office of the Secretary, U.S. Department of Transportation (DOT).

ACTION: Notice of solicitation of nominations for membership.

SUMMARY: Pursuant to Section 5, Establishment of the Department of Transportation Advisory Committee on Human Trafficking, of the Combating Human Trafficking in Commercial Vehicles Act, the Secretary of Transportation (Secretary) requests nominations for membership on an advisory committee on human trafficking (Committee).

DATES: Nominations for Committee members must be received on or before 5:00 p.m. ET on August 20, 2018. The Agency encourages nominations submitted any time before the deadline. After that date, the Department will continue to accept nominations under this notice to fill any vacancies that may arise.

ADDRESSES: Interested candidates may submit a completed application by one of the following methods:

• Email: trafficking@dot.gov. Subject Line: Nominations for the Advisory Committee on Human Trafficking.

• Mail: Attention: Nominations for the Advisory Committee on Human Trafficking, Nicole Bambas, Senior Advisor, Office of International Transportation and Trade, Room W86-419, U.S. Department of Transportation, 1200 New Jersey Ave. SE, Washington, DC 20590. Please include name, mailing address, and telephone number.

FOR FURTHER INFORMATION CONTACT: Nicole Bambas, Senior Advisor, Office of International Transportation and Trade, at trafficking@dot.gov or (202) 366-5058.

SUPPLEMENTARY INFORMATION:

I. Who should be considered for nomination as Committee members?

The Department of Transportation seeks nominations for members of the advisory committee on human trafficking. The Secretary of Transportation will appoint up to 15 external stakeholder Committee members including representatives from—(A) trafficking advocacy organizations; (B) law enforcement; and (C) trucking, bus, rail, aviation, maritime, and port sectors, including industry and labor. Committee members will be selected with a view towards achieving diverse experience and background that will enable Committee members to provide balanced points of view with regard to carrying out the duties of the Committee. Committee members shall serve for the life of the Committee.

The Committee will provide information, advice, and recommendations to the U.S. Secretary of Transportation on matters relating to human trafficking, and develop recommended best practices for states and state and local transportation stakeholders in combating human trafficking. The best practices must be user-friendly, incorporating the most up to date technology, and shall be developed based upon multidisciplinary research, promising evidence-based models and programs. The content for the best practices must include sample training materials, strategies to identify victims, and sample protocols and recommendations. The sample protocols and recommendations will include: (1) Strategies to collect, document, and share data across systems and agencies, (2) strategies that will help agencies better understand the types of trafficking involved, the scope of the problem, and the degree of victim interaction with multiple systems, and (3) strategies to identify effective pathways for State agencies to utilize their position in educating critical stakeholder groups and assisting victims.

Registered lobbyists are prohibited from serving on Federal advisory committees in their individual capacities. The prohibition does not apply if registered lobbyists are specifically appointed to represent the interests of a nongovernmental entity, a recognizable group of persons or nongovernmental entities (an industry sector, labor unions, environmental groups, etc.) or State or local governments. Registered lobbyists are lobbyists required to comply with provisions contained in the Lobbying Disclosure Act of 1995 (Pub. L. 110-81).

II. Do advisory committee on human trafficking members receive compensation and/or per diem?

While attending meetings or when otherwise engaged in Committee business, Committee members may be reimbursed for travel and per diem expenses as permitted under applicable Federal travel regulations. Reimbursement is subject to funding availability. Committee members will receive no salary or other compensation for participation in Committee activities.

III. What is the process for submitting nominations?

Individuals can self-apply or be nominated by any individual or organization. To be considered for the Committee, nominators should submit the following information:

(1) Contact Information for the nominee, consisting of:

a. Name

b. Title

c. Organization or Affiliation

d. Address

e. City, State, Zip

f. Telephone number

g. Email address

(2) Statement of nomination limited to 250 words on why the nominee wants to serve or why the nominator is nominating the nominee to serve on the advisory committee on human trafficking, and the unique perspectives and experiences the nominee brings to the Committee.

(3) Resume limited to 3 pages describing professional and academic expertise, experience, and knowledge, including any relevant experience serving on advisory committees, past and present.

(4) An affirmative statement that the nominee is not a Federally registered lobbyist seeking to serve on the Committee in their individual capacity, and the identity of the interests they intend to represent if appointed as a Committee Member.

(5) An affirmative statement that the nominee meets all Committee eligibility requirements.

(6) Optional letters of support.

Please do not send company, trade association, organizational brochures, or any other promotional information. Materials submitted should total five pages or less, must be in a 12-point font, and must be formatted as a Microsoft Word document or PDF. Should more information be needed, Department of Transportation staff will contact the nominee, obtain information from the nominee's past affiliations, or obtain information from publicly available sources. If you are interested in applying to become a member of the Committee, send a completed application package by email to trafficking@dot.gov or by mail to Attention: Nominations for the Advisory Committee on Human Trafficking, Nicole Bambas, Senior Advisor, Office of International Transportation and Trade, Room W86-419, U.S. Department of Transportation, 1200 New Jersey Ave. SE, Washington, DC 20590. Applications must be received on or before 5:00 p.m. ET on August 20, 2018; however, candidates are encouraged to submit an application any time before the deadline.

IV. How will DOT select advisory committee on human trafficking members?

A selection team comprised of representatives from the Office of the Secretary of Transportation will review the application packages. The selection team will make recommendations regarding membership to the Secretary based on the following criteria: (1) Expertise, experience, and knowledge, including professional or academic expertise; (2) stakeholder representation; (3) availability and willingness to serve; and (4) relevant experience working in committees and advisory panels. Nominations are open to all individuals without regard to race, color, religion, sex, national origin, age, mental or physical disability, marital status, or sexual orientation. Nominees selected for appointment to the Committee will be notified by return email and by a letter of appointment.

(Authority: Pub. L. 115-99 (Jan 3, 2018)).

* * * * *

Joel Szabat,
Deputy Assistant Secretary, Aviation and International Affairs.

[FR Doc. 2018-14515 Filed 7-5-18; 8:45 am]

BILLING CODE 4910-9X-P